DEPARTMENT OF HOMELAND SECURITY

Office of the Secretary

[Docket No. DHS-2024-0025]

DHS Data Privacy and Integrity Advisory Committee

AGENCY: Privacy Office, Department of Homeland Security (DHS).

ACTION: Committee management; notice of committee charter renewal.

SUMMARY: The Secretary of Homeland Security has determined that the renewal of the Data Privacy and Integrity Advisory Committee is necessary and in the public interest in connection with the Department of Homeland Security's performance of its duties. This determination follows consultation with the Committee Management Secretariat, General Services Administration. This notice is not a solicitation for membership.

DATES: The committee's current Charter is effective August 9, 2022, and expires August 9, 2024.

FOR FURTHER INFORMATION CONTACT: Sandra L. Taylor, Designated Federal Officer, DHS Data Privacy and Integrity Advisory Committee, Department of Homeland Security, Privacy Office, Mail Stop 0655, 2707 Martin Luther King Jr. Ave. SE, Washington, DC 20598-0655, by telephone (202) 343-1717, by fax (202) 343-4010, or by email to privacycommittee@hq.dhs.gov.

Responsible DHS Officials: Mason C. Clutter, Chief Privacy Officer, and Sandra L. Taylor, Designated Federal Officer, 2707 Martin Luther King, Jr., Avenue SE, Mail Stop 0655, Washington, DC 20598, PrivacyCommittee@dhs.gov, (202) 343-1717.

SUPPLEMENTARY INFORMATION: Purpose and Objective: Under the authority of 6 U.S.C. 451, this Charter renewed the Data Privacy and Integrity Advisory Committee as a discretionary committee, which shall operate in accordance with the provisions of the Federal Advisory Committee Act (FACA), 5 U.S.C. ch. 10. The Committee provides advice at the request of the Secretary and the Chief Privacy Officer of the Department of Homeland Security on programmatic, policy, operational, security, administrative, and technological issues within DHS that relate to personally identifiable information (PII), data integrity, transparency, and other privacy-related matters.

Mason C. Clutter,
Chief Privacy Officer, Department of Homeland Security.

[FR Doc. 2024-15459 Filed 7-12-24; 8:45 am]

BILLING CODE P